DEPARTMENT OF TRANSPORTATION

Federal Motor Carrier Safety Administration

[Docket No. FMCSA-2021-0191]

Parts and Accessories Necessary for Safe Operation; Application for an Exemption From Loomis Armored US, LLC

AGENCY: Federal Motor Carrier Safety Administration (FMCSA), DOT.

ACTION: Notice of final disposition; grant of exemption.

SUMMARY: The FMCSA announces its decision to grant the request submitted by Loomis Armored US, LLC (Loomis) for a limited 5-year exemption to allow Loomis to weld shut the cab doors and add two new doors behind the cab of its armored vehicles. The Agency has determined that granting the exemption is likely to provide a level of safety equivalent to, or greater than, the level of safety achieved without the exemption.

DATES: This exemption is effective October 18, 2021 and ending October 13, 2026.

FOR FURTHER INFORMATION CONTACT: Mr. José R. Cestero, Vehicle and Roadside Operations Division, Office of Carrier, Driver, and Vehicle Safety, MC-PSV, (202) 366-5541, Federal Motor Carrier Safety Administration, 1200 New Jersey Avenue SE, Washington, DC 20590-0001.

Docket: For access to the docket to read background documents or comments submitted to notice requesting public comments on the exemption application, go to www.regulations.gov at any time or visit Dockets Operations, Room W12-140 on the ground level of the West Building, 1200 New Jersey Avenue SE, Washington, DC, between 9 a.m. and 5 p.m., ET, Monday through Friday, except Federal holidays. To be sure someone is there to help you, please call (202) 366-9317 or (202) 366-9826 before visiting Dockets Operations. The on-line Federal document management system is available 24 hours each day, 365 days each year. The docket number is listed at the beginning of this notice.

SUPPLEMENTARY INFORMATION:

Background

FMCSA has authority under 49 U.S.C. 31136(e) and 31315 to grant exemptions from certain parts of the Federal Motor Carrier Safety Regulations (FMCSRs). FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

Loomis' Application for Exemption

Section 393.203(a) of the FMCSRs requires that (1) cab compartment doors or door parts used as an entrance or exit shall not be missing or broken; (2) doors shall not sag so that they cannot be properly opened or closed; and (3) no door shall be wired shut or otherwise secured in the closed position so that it cannot be readily opened.

Exception: When the vehicle is loaded with pipe or bar stock that blocks the door and the cab has a roof exit.

Loomis has applied for an exemption from section 393.203(a) to allow the cab doors on its specialized armored vehicles to be welded shut, given the addition of two new doors behind the cab. A copy of the application is included in the docket referenced at the beginning of this notice. In its application, Loomis states that it introduced a type of armored vehicle that allows a reduced number of employees safely to handle cash and other valuables. The vehicles utilize a new proprietary security technology that required the installation of cab doors different from those provided by the original equipment manufacturer (OEM). In order to maintain the safety of Loomis personnel and valuable goods, as well as to enter and exit the vehicle, the cab doors were welded shut, and two new doors were installed behind the cab.

To enter the armored vehicles, the employee uses the newly installed trap compartment door. This door is equipped with biometric technology which is accessible only to authorized personnel. In case of a loss of power, the biometric technology has proprietary safety features and overrides that can be used to access the vehicle. To exit the vehicle, the employee uses the trap compartment door or the escape hatch door. Loomis states that it tested these vehicles to ensure operator security and determined that vehicle safety was not compromised. Loomis states that it trains employees on the use and operation of these armored vehicles. Loomis believes that welding shut the cab doors and adding two new doors behind the cab will maintain a level of safety that is equivalent to, or greater than, the level of safety achieved without the exemption, while allowing secure armored vehicle operations with reduced staff.

Comments

FMCSA published a notice of the application in the Federal Register on April 7, 2021 and asked for public comment (86 FR 18111). The Agency received comments from two individuals.

Both commenters stated that during a crash, it would be very difficult for first responders to access the personnel inside the armored vehicle if the cab doors are welded shut and the two new doors behind the behind the cab are secured.

FMCSA Decision

The FMCSA has evaluated the Loomis exemption application and the comments received. The Agency believes that granting the temporary exemption to allow Loomis armored vehicles to weld shut the cab doors and add two new doors behind the cab is likely to provide a level of safety that is equivalent to, or greater than, the level of safety achieved without the exemption.

Loomis requested an exemption from section 393.203(a) to allow it to weld shut the cab doors (i.e., the door to the left of the driver's seat and the door to the right of the front passenger's seat) and rely upon two high security doors behind the cab. Because of the nature of Loomis's business, this is done to provide higher security against attempted robberies and other offenses.

The new doors provide personnel with an ability to quickly exit the armored car with an “emergency escape hatch” to the rear of the driver's seat and a “messenger exterior door” to the rear of the front passenger seat. In addition, Loomis stated that it has evaluated the impact of the new doors and determined that neither vehicle safety nor operator security was compromised. Loomis stated that it trains employees in the use and operation of its armored vehicles.

FMCSA acknowledges the concern of commenters that during a crash it would be difficult for first responders to access the personnel inside the armored vehicle if the cab doors are welded shut and the entry door is secured. The Agency believes first responders would also face difficulties with standard doors, given that an armored vehicle is designed to protect the occupants and cash or other valuables from unauthorized entry. FMCSA believes that the doors to the rear of the cab provide an equivalent means of evacuating the vehicle and for first responders to provide assistance after a crash, with the understanding that the emergency response team would likely have the tools necessary to gain access in the event the occupants were incapacitated. Therefore, the Agency has determined that granting the exemption is likely to provide a level of safety equivalent to, or greater than, the level of safety achieved without the exemption.

Terms and Conditions for the Exemption

The Agency hereby grants the exemption for a 5-year period, beginning October 18, 2021 and ending October 13, 2026. During the temporary exemption period, approximately 500 Loomis armored vehicles will be allowed to weld shut the OEM doors given the addition of the emergency escape hatch to the rear of the driver's seat, and the messenger exterior door to the rear of the front passenger's seat. Specifically, the exemption will allow Loomis to weld shut the cab doors and install two new high security doors behind the cab.

The exemption will be valid for 5 years unless rescinded earlier by FMCSA. The exemption will be rescinded if: (1) Loomis armored vehicles fail to comply with the terms and conditions of the exemption; (2) the exemption has resulted in a lower level of safety than was maintained before it was granted; or (3) continuation of the exemption would not be consistent with the goals and objectives of 49 U.S.C. 31136(e) and 31315(b).

Interested parties possessing information that would demonstrate that Loomis armored vehicles subject to this exemption are not achieving the requisite statutory level of safety should immediately notify FMCSA. The Agency will evaluate any such information and, if safety is being compromised or if the continuation of the exemption is not consistent with 49 U.S.C. 31136(e) and 31315(b), will take immediate steps to revoke the exemption.

Preemption

In accordance with 49 U.S.C. 31313(d), as implemented by 49 CFR 381.600, during the period this exemption is in effect, no State shall enforce any law or regulation applicable to interstate commerce that conflicts with or is inconsistent with this exemption. States may, but are not required to, adopt the same exemption with respect to operations in intrastate commerce.

Meera Joshi,
Deputy Administrator.

[FR Doc. 2021-22615 Filed 10-15-21; 8:45 am]

BILLING CODE 4910-EX-P